DEPARTMENT OF DEFENSE

Department of the Army

Availability for Non-Exclusive, Exclusive, or Partially Exclusive Licensing of U.S. Patent Application Concerning Easy Access Dental Field Operating and Treatment System Having Over-the-Patient Delivery

AGENCY: Department of the Army, DoD.

ACTION: Notice.

SUMMARY: In accordance with 37 CFR 404.6 and 404.7, announcement is made of the availability for licensing of U.S. Patent Application No. 09/828,601 entitled “Easy Access Dental Field Operating and Treatment System Having Over-the-Patient Delivery,” filed April 6, 2001. Foreign rights are also available IPCT/US02/01283). The United States Government, as represented by the Secretary of the Army, has rights in this invention.

ADDRESSES: Commander, U.S. Army Medical Research and Materiel Command, ATTN: Command Judge Advocate, MCMR-JA, 504 Scott Street, Fort Detrick, Frederick, MD 21702-5012.

FOR FURTHER INFORMATION CONTACT: For patient issues, Ms. Elizabeth Arwine, Patent Attorney, (301) 619-7808. For licensing issues, Dr. Paul Mele, Office of Research & Technology Assessment, (301) 619-6664, both at telefax (301) 619-5034.

SUPPLEMENTARY INFORMATION: Dental treatment systems are systems which facilitate the delivery of dental services to patients. The application relates, in general, to portable dental treatment systems.

Luz D. Ortiz,
Army Federal Register Liaison Officer.

[FR Doc. 02-23849 Filed 9-19-02; 8:45 am]

BILLING CODE 3710-08-M